DEPARTMENT OF HOMELAND SECURITY

[Docket No. DHS-2021-0043]

Homeland Security Science and Technology Advisory Committee

AGENCY: Science and Technology Directorate, DHS.

ACTION: Committee management; notice of Federal Advisory Committee charter re-establishment.

SUMMARY: The Secretary of Homeland Security has determined that the re-establishment of the Homeland Security Science and Technology Advisory Committee (HSSTAC) is necessary and in the public interest in connection with the Department of Homeland Security, Science and Technology Directorate's performance of its duties. This determination follows consultation with the Committee Management Secretariat, General Services Administration.

ADDRESSES: If you desire to submit comments on this action, they must be submitted by October 22, 2021. Comments must be identified by (DHS-2021-0043) and may be submitted by one of the following methods:

• Federal eRulemaking Portal: http://www.regulations.gov. Follow the instructions for submitting comments.

• Email: hsstac@hq.dhs.gov. Include the docket number in the subject line of the message.

• Mail: Adam Cox, HSSTAC Executive Director, and Stanley Cunningham, Designated Federal Official, S&T Department of Homeland Security, 0205 Murray Ln. SW, Washington DC 20528.

• Instructions: All submissions received must include the words “Department of Homeland Security” and the docket number. Comments received will be posted without alteration at http://www.regulations.gov.

Docket: For access to the docket to read the background documents or comments received by the HSSTAC, go to http://www.regulations.gov and enter the docket number into the search function: DHS-2021-0043.

FOR FURTHER INFORMATION CONTACT: Adam Cox, HSSTAC Executive Director, and Stanley Cunningham, HSSTAC Designated Federal Official, S&T Department of Homeland Security, hsstac@hq.dhs.gov, 202-878-1455.

SUPPLEMENTARY INFORMATION: Name of Committee: Homeland Security Science and Technology Advisory Committee (HSSTAC).

Purpose and Objective: The charter of the Homeland Security Science and Technology Committee (HSSTAC) is being re-established in accordance with the provisions of the Federal Advisory Committee Act (FACA), Title 5 United States Code, Appendix. The HSSTAC is established pursuant to the authority of Title 6 United States Code, Section 451 and provides independent, consensus scientific and technical advice and recommendations to the Under Secretary for Science and Technology who leads the Department of Homeland Security (DHS) Science and Technology Directorate (S&T). S&T's activities focus on strengthening America's security and resiliency by providing knowledge products and innovative technology solutions for the Homeland Security Enterprise. The HSSTAC will support the priority needs of DHS S&T's Chief Scientist, Director of Strategy and Policy, as well as the functional offices conducting the Directorate's Research, Development, Test and Evaluation (RDT&E) mission. Upon request by the Secretary of Homeland Security, the committee will provide scientifically- and technically-based advice to the Homeland Security Advisory Council.

Duration: The committee's charter is effective November 15, 2021 and expires November 15, 2023.

Responsible DHS Officials: Adam Cox, HSSTAC Executive Director, and Stanley Cunningham, HSSTAC Designated Federal Official, S&T Department of Homeland Security, hsstac@hq.dhs.gov.

Dated: September 21, 2021.
Stanley Cunningham,
Designated Federal Official for the HSSTAC.

[FR Doc. 2021-23651 Filed 10-29-21; 8:45 am]

BILLING CODE 9110-9F-P